DEPARTMENT OF THE INTERIOR

National Park Service

[NPS-WASO-NAGPRA-21300]; [PPWOCRADN0-PCU00RP14.R50000]

Notice of Inventory Completion: Museum of Anthropology at Washington State University, Pullman, WA

AGENCY: National Park Service, Interior.

ACTION: Notice.

SUMMARY: The Museum of Anthropology at Washington State University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Museum of Anthropology at Washington State University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Museum of Anthropology at Washington State University at the address in this notice by July 27, 2016.

ADDRESSES: Mary Collins, Director Emeritus of the Museum of Anthropology at Washington State University, Pullman, WA 99164-49140, phone (509) 592-6929, email collinsm@wsu.edu.

SUPPLEMENTARY INFORMATION: Notice is here given in accordance with the Native American Graves Protection and Repatriation Act (NAGPRA), 25 U.S.C. 3003, of the completion of an inventory of human remains and associated funerary objects under the control of the Museum of Anthropology at Washington State University. The human remains and associated funerary objects were removed from Chagvan Bay, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Anthropology at Washington State University in conjunction with the Native Village of Goodnews Bay, and the Platinum Traditional Village.

History and Description of the Remains

In 1962, human remains representing, at minimum, three individuals were removed from the archeological site known in the Alaska system as site XHI-001, in Chagvan Bay, AK. The burial was found eroding out of the south spit area of the Bay and was collected by archeologists from Washington State University, led by Dr. Robert Ackerman, who was doing studies in the vicinity. The human remains have been in Dr. Ackerman's research lab since 1962. No published description or analysis of the human remains has been done. No known individuals were identified. The four associated funerary objects are 1 semi-lunar metal knife blade, 1 metal knife blade, and 2 tabular stones.

The human remains represent one female and two males, all of whom are adults. All were found in a single burial box. The associated funerary objects are of historic manufacture, dating the human remains to the historic period. Geographical, archeological, and historical information suggest that the area of Chagvan Bay is within the traditional subsistence territory of the communities of the Native Village of Goodnews Bay and the Platinum Traditional Village.

Determinations Made by the Museum of Anthropology at Washington State University

Officials of the Museum of Anthropology at Washington State University have determined that:

• Pursuant to 25 U.S.C. 3001(9), the human remains described in this notice represent the physical remains of three individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Native Village of Goodnews Bay and Platinum Traditional Village.

Additional Requestors and Disposition

Lineal descendants or representatives of any Indian tribe or Native Hawaiian organization not identified in this notice that wish to request transfer of control of these human remains and associated funerary objects should submit a written request with information in support of the request to Mary Collins, Director of the Museum of Anthropology at Washington State University, Pullman, WA 99164-49140, telephone (509) 592-6929, email collinsm@wsu.edu, by July 27, 2016. After that date, if no additional requestors have come forward, transfer of control of the human remains and associated funerary objects to the Native Village of Goodnews Bay and Platinum Traditional Village may proceed.

The Museum of Anthropology at Washington State University is responsible for notifying the Native Village of Goodnews Bay and Platinum Traditional Village that this notice has been published.

Dated: June 13, 2016.
Melanie O'Brien,
Manager, National NAGPRA Program.

[FR Doc. 2016-15245 Filed 6-24-16; 8:45 am]

BILLING CODE 4312-50-P